DEPARTMENT OF TRANSPORTATION

Federal Aviation Administration

Four Agency Information Collection Activities Under OMB Review

AGENCY: Federal Aviation Administration (FAA), DOT.

ACTION: Notice.

SUMMARY: In compliance with the Paperwork Reduction Act of 1995 (44 U.S.C. 3501 et seq.), this notice announces that the four Information Collection Requests (ICRs) abstracted below have been forwarded to the Office of Management and Budget (OMB) for extension of the currently approved collections. The ICR describes the nature of the information collections and the expected burden. The Federal Register Notice with a 60-day comment period soliciting comments on the following collections of information was published on March 28, 2002.

DATES: Comments must be submitted on or before September 13, 2002. A comment to OMB is most effective if OMB receives it within 30 days of publication.

ADDRESSES: Send comments to the Office of Information and Regulatory Affairs, Office of Management and Budget, 725 17th Street, NW., Washington, DC 20503, Attention FAA Desk Officer.

FOR FURTHER INFORMATION CONTACT: Judy Street on (202) 267-9895.

SUPPLEMENTARY INFORMATION:

Federal Aviation Administration (FAA)

(1) Title: Pilot Schools—FAR 141.

Type of Request: Extension of a currently approved collection.

OMB Control Number: 2120-0009.

Forms(s): FAA Form 8420-8.

Affected Public: A total of 524 applicants for pilot school certification.

Abstract: Chapter 447, Subsection 44707, authorizes certification of civilian schools in instruction in flying. 14 CFR part 141 prescribes requirements for pilot schools certification. The information collected is used for certification and to determine compliance. The respondents are applicants who wish to be issued pilot school certificates and associated ratings.

Estimated Annual Burden Hours: An estimated 28,878 hours annually.

(2) Title: Rotorcraft External-Load Operator Certificate Application—FAR—133.

Type of Request: Extension of a currently approved collection.

OMB Control Number: 2120-0044.

Forms(s): FAA 8710-4.

Affected Public: A total of 400 applicants and rotorcraft operators.

Abstract: The information required by part 133 is used by the FAA to process the operating certificate as a record of aircraft authorized for use, and to monitor Rotorcraft External-Load Operations. Part 133 establishes certification and operating rules governing nonpassenger-carrying rotorcraft-external load operations conducted for compensation or hire.

Estimated Annual Burden Hours: An estimated 3,268 hours annually.

(3) Title: General Aviation/Air Taxi activity and Avionics Survey.

Type of Request: Extension of a currently approved collection.

OMB Control Number: 2120-0060.

Forms(s): FAA Form 1800-54.

Affected Public: A total of 30,000 applicants.

Abstract: Respondents to this survey are owners of general aviation aircraft. The information is used by the FAA, National Transportation Safety Board, and other government agencies, the aviation industry, and others for safety assessment, planning, forecasting, cost/benefit analysis, and to target areas of research

Estimated Annual Burden Hours: An estimated 5,500 hours annually.

(4) Title: Aviator Safety Studies.

Type of Request: Extension of a currently approved collection.

OMB Control Number: 2120-0587.

Forms(s): N/A.

Affected Public: A total of 3,333 applicants for pilot school certification.

Abstract: In order to develop effective intervention programs to improve aviation safety, data are required on the type and range of various pilot attributes related to their skill in making safety-related aeronautical decisions. The information collected is used to develop new training methods particularly suited to general aviation pilots.

Estimated Annual Burden Hours: An estimated 28,878 hours annually.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on August 2, 2002.
Judith D. Street,
FAA Information Collection Clearance Officer, Standards and Information Division, APF-100.

[FR Doc. 02-20638 Filed 8-13-02; 8:45 am]

BILLING CODE 4910-13-M